DEPARTMENT OF VETERANS AFFAIRS

Joint Biomedical Laboratory Research and Development and Clinical Science Research and Development Services Scientific Merit Review Board; Notice of Meetings

The Department of Veterans Affairs gives notice under the Public Law 92-463 (Federal Advisory Committee Act) that the subcommittees of the Joint Biomedical Laboratory Research and Development and Clinical Science Research and Development Services Scientific Merit Review Board will meet from 8 a.m. to 5 p.m. as indicated below:

Subcommittee for | Date(s) | Location
Infectious Diseases-A | November 9, 2005 | St. Gregory Hotel.
Hematology | November 10, 2005 | Hotel Madera.
Mental Hlth & Behav Sciences-A | November 11, 2005 | Hilton Embassy Row.
Mental Hlth & Behav Sciences-B | November 17, 2005 | The Churchill Hotel.
Respiration | November 17, 2005 | Hilton Embassy Row.
Surgery-A/B | November 21, 2005 | The Churchill Hotel.
Endocrinology-A | November 21-22, 2005 | St. Gregory Hotel.
Cardiovascular Studies-A | November 28, 2005 | Wyndham Hotel.
Aging and Clinical Geriatrics | November 29, 2005 | The Churchill Hotel.
Neurobiology-D | November 29, 2005 | Hilton Embassy Row.
Oncology-B | November 29-30, 2005 | St. Gregory Hotel.
Immunology-B | December 2, 2005 | St. Gregory Hotel.
General Medical Science (Cellular and Molecular Medicine) | December 2, 2005 | Hotel Madera.
Endocrinology-B | December 2, 2005 | Wyndham Hotel.
Clinical Research Program | December 5, 2005 | Wyndham Hotel.
Nephrology | December 5, 2005 | St. Gregory Hotel.
Immunology-A | December 6, 2005 | Topaz Hotel.
Neurobiology-A | December 7-8, 2005 | Wyndham Hotel.
Gastroenterology | December 8, 2005 | Wyndham Hotel.
Infectious Diseases-A | December 9, 2005 | The Churchill Hotel.
Cardiovascular Studies-B | December 9, 2005 | Hilton Embassy Row.
Epidemiology | December 12-13, 2005 | Hilton Embassy Row.
Oncology-A | December 12-13, 2005 | Wyndham Hotel.
Neurobiology-B/C | December 12-13, 2005 | Wyndham Hotel.
Neurobiology-E | December 12, 2005 | Hilton Embassy Row.

The addresses of the hotels are:

Hilton Embassy Row, 2015 Massachusetts Avenue, NW., Washington, DC

Hotel Madera, 1310 New Hampshire Avenue, NW., Washington, DC

St. Gregory Hotel, 2033 M Street, NW., Washington, DC

The Churchill Hotel, 1914 Connecticut Avenue, NW., Washington, DC

Topaz Hotel, 1733 N Street, NW., Washington, DC

Wyndham Hotel, 1400 M Street, NW., Washington, DC

The purpose of the Merit Review Board is to provide advice on the scientific quality, budget, safety and mission relevance of investigator-initiated research proposals submitted for VA merit review consideration. Proposals submitted for review by the Board involve a wide range of medical specialties within the general areas of biomedical, behavioral and clinic science research.

The subcommittee meetings will be open to the public for approximately one hour at the start of each meeting to discuss the general status of the program. The remaining portion of each subcommittee meeting will be closed to the public for the review, discussion, and evaluation of initial and renewal projects.

The closed portion of each meeting involves discussion, examination, reference to staff and consultant critiques of research protocols. During this portion of each subcommittee meeting, discussion and recommendations will deal with qualifications of personnel conducting the studies, the disclosure of which would constitute a clearly unwarranted invasion of personal privacy, as well as research information, the premature disclosure of which significantly frustrate implementation of proposed agency action regarding such research projects.

As provided by subsection 10(d) of Public Law 92-463, as amended, closing portions of these subcommittee meetings is in accordance with 5 U.S.C. 552b(c)(6) and (9)(B). Those who plan to attend or would like to obtain a copy of minutes of the subcommittee meetings and rosters of the members of the subcommittees should contact LeRoy G. Frey, Ph.D., Chief, Program Review (121F), Department of Veterans Affairs, 810 Vermont Avenue, NW., Washington, DC, 20420 at (202) 254-0288.

Dated: October 13, 2005.
By direction of the Secretary.
E. Philip Riggin,
Committee Management Officer.

[FR Doc. 05-20947 Filed 10-19-05; 8:45 am]

BILLING CODE 8320-01-M